DEPARTMENT OF HOMELAND SECURITY

Federal Emergency Management Agency

44 CFR Part 65

[Docket ID FEMA-2010-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Maricopa (FEMA Docket No: B-1059) | City of El Mirage (08-09-1164P) | May 7, 2009; May 14, 2009; Arizona Business Gazette | The Honorable Fred Waterman, Mayor, City of El Mirage, P.O. Box 26, El Mirage, AZ 85335 | April 30, 2009 | 040041
Maricopa (FEMA Docket No: B-1059) | Unincorporated areas of Maricopa County (08-09-1164P) | May 7, 2009; May 14, 2009; Arizona Business Gazette | The Honorable Andrew W. Kunasek, Chairman, Maricopa County Board of Supervisors, 301 West Jefferson Street, 10th Floor, Phoenix, AZ 85003 | April 30, 2009 | 040037
Maricopa (FEMA Docket No: B-1059) | Unincorporated areas of Maricopa County (08-09-1294P) | May 7, 2009; May 14, 2009; Arizona Business Gazette | The Honorable Andrew W. Kunasek, Chairman, Maricopa County Board of Supervisors, 301 West Jefferson Street, 10th Floor, Phoenix, AZ 85003 | April 23, 2009 | 040037
Maricopa (FEMA Docket No: B-1059) | City of Phoenix (08-09-1294P) | May 7, 2009; May 14, 2009; Arizona Business Gazette | The Honorable Phil Gordon, Mayor, City of Phoenix, 200 West Washington Street, 11th Floor, Phoenix, AZ 85003 | April 23, 2009 | 040051
Maricopa (FEMA Docket No: B-1059) | City of Phoenix (08-09-1384P) | May 7, 2009; May 14, 2009; Arizona Business Gazette | The Honorable Phil Gordon, Mayor, City of Phoenix, 200 West Washington Street, 11th Floor, Phoenix, AZ 85003 | September 11, 2009 | 040051
Navajo (FEMA Docket No: B-1055) | Unincorporated areas of Navajo County (08-09-1857P) | April 22, 2009; April 29, 2009; The Tribune News | The Honorable J.R. Despain, Chairman, Navajo County Board of Supervisors, P.O. Box 668, Holbrook, AZ 86025 | August 27, 2009 | 040066
California:
Sacramento (FEMA Docket No: B-1059) | City of Elk Grove (08-09-1760P) | May 12, 2009; May 19, 2009; The Sacramento Bee | The Honorable Patrick Hume, Mayor, City of Elk Grove, 8401 Laguna Palms Way, Elk Grove, CA 95758 | June 2, 2009 | 060767
Sacramento (FEMA Docket No: B-1059) | Unincorporated areas of Sacramento County (08-09-1760P) | May 12, 2009; May 19, 2009; The Sacramento Bee | The Honorable Susan Peters, Chair, Sacramento County Board of Supervisors, 700 H Street, Suite 2450, Sacramento, CA 95814 | June 2, 2009 | 060262
San Diego (FEMA Docket No: B-1059) | City of Carlsbad (09-09-0276P) | May 1, 2009; May 8, 2009; North County Times | The Honorable Claude A. Lewis, Mayor, City of Carlsbad, 1200 Carlsbad Village Drive, Carlsbad, CA 92008 | September 8, 2009 | 060285
Ventura (FEMA Docket No: B-1059) | Unincorporated areas of Ventura County (08-09-1921P) | May 8, 2009; May 15, 2009; Ventura Star | The Honorable Steve Bennett, Chairman, Ventura County Board of Supervisors, 800 South Victoria Avenue, Ventura, CA 93009 | September 14, 2009 | 060413
Colorado:
Grand (FEMA Docket No: B-1059) | Town of Granby (08-08-0416P) | April 30, 2009; May 7, 2009; Middle Park Times | The Honorable Jynnifer Pierro, Mayor, Town of Granby, P.O. Box 440, Granby, CO 80446 | September 8, 2009 | 080248
Grand (FEMA Docket No: B-1059) | Unincorporated areas of Grand County (08-08-0416P) | April 30, 2009; May 7, 2009; Middle Park Times | The Honorable Nancy Stuart, Chairman, Grand County Board of Commissioners, P.O. Box 264, Hot Sulphur Springs, CO 80451 | September 8, 2009 | 080280
Florida: Charlotte (FEMA Docket No: B-1059) | Unincorporated areas of Charlotte County (09-04-3000P | May 11, 2009; May 18, 2009; Charlotte Sun-Herald | The Honorable Adam Cummings, Chairman, Charlotte County Board of Commissioners, 18500 Murdock Circle, Port Charlotte, FL 33948 | April 30, 2009 | 120061
Indiana: Marion (FEMA Docket No: B-1059) | City of Indianapolis (09-05-2436P) | May 8, 2009; May 15, 2009; Indianapolis Recorder | The Honorable Gregory A. Ballard, Mayor, City of Indianapolis, City-County Building, Suite 2150, 200 East Washington Street, Indianapolis, IN 46204 | April 30, 2009 | 180159
Missouri: St. Louis (FEMA Docket No: B-1055) | City of Richmond Heights (09-07-0908P) | April 30, 2009; May 7, 2009; The Countian | The Honorable James J. Beck, Mayor, City of Richmond Heights, 1330 South Big Bend Boulevard, Richmond Heights, MO 63117 | September 8, 2009 | 290380
Nevada: Clark (FEMA Docket No: B-1059) | City of North Las Vegas (09-09-0019P) | May 8, 2009; May 15, 2009; Las Vegas Review-Journal | The Honorable Michael L. Montandon, Mayor, City of North Las Vegas, 2200 Civic Center Drive, North Las Vegas, NV 89030 | September 14, 2009 | 320007
North Carolina: Pender (FEMA Docket No: B-1059) | Unincorporated Areas of Pender County (08-04-6525P) | May 6, 2009; May 13, 2009; The Pender Post | Mr. Rick Benton, Manager, Pender County, 805 South Walker Street, P.O. Box 5, Burgaw, North Carolina 28425 | September 10, 2009 | 370344
Oklahoma: Rogers (FEMA Docket No: B-1059) | City of Catoosa (09-06-0354P) | May 6, 2009; May 13, 2009; Catoosa Times | The Honorable Rita Lamkin, Mayor, City of Catoosa, P.O. Box 190, Catoosa, OK 74015 | April 29, 2009 | 400185
South Carolina: Charleston (FEMA Docket No: B-1059) | City of North Charleston (08-04-2279P) | April 30, 2009; May 7, 2009; Post and Courier | The Honorable R. Keith Summery, Mayor, City of North Charleston, P.O. Box 190016, North Charleston, SC 29419 | September 3, 2009 | 450042
Texas:
Brazos (FEMA Docket No: B-1059) | City of College Station (08-06-2806P) | May 11, 2009; May 18, 2009; Bryan-College Station Eagle | The Honorable Ben White, Mayor, City of College Station, P.O. Box 9960, College Station, TX 77842 | June 2, 2009 | 480083
Dallas (FEMA Docket No: B-1059) | City of Cedar Hill (08-06-2296P) | May 8, 2009; May 15, 2009; Dallas Morning News | The Honorable Rob Franke, Mayor, City of Cedar Hill, 285 Uptown Boulevard, Cedar Hill, TX 75104 | September 14, 2009 | 480168
Dallas (FEMA Docket No: B-1059) | City of Duncanville (08-06-2296P) | May 8, 2009; May 15, 2009; Dallas Morning News | The Honorable David Green, Mayor, City of Duncanville, P.O. Box 380280, Duncanville, TX 75138 | September 14, 2009 | 480173
Denton (FEMA Docket No: B-1059) | City of Frisco (08-06-3220P) | May 8, 2009; May 15, 2009; Frisco Enterprise | The Honorable Maher Maso, Mayor, City of Frisco, 6101 Frisco Square Boulevard, Frisco, TX 75034 | May 29, 2009 | 480134
Fort Bend (FEMA Docket No: B-1052) | Unincorporated areas of Fort Bend County (08-06-2236P) | April 16, 2009; April 23, 2009; Fort Bend Sun | The Honorable Robert E. Hebert, Ph.D., Fort Bend County Judge, 301 Jackson Street, Richmond, TX 77469 | August 21, 2009 | 480228
Fort Bend (FEMA Docket No: B-1052) | City of Sugar Land (08-06-2236P) | April 16, 2009; April 23, 2009; Fort Bend Sun | The Honorable James A. Thompson, Mayor, City of Sugar Land, P.O. Box 110, Sugar Land, TX 77487 | August 21, 2009 | 480234
Galveston (FEMA Docket No: B-1059) | City of League City (08-06-3081P) | May 8, 2009; May 15, 2009; Galveston County Daily News | The Honorable Toni Randall, Mayor, City of League City, 300 West Walker Street, League City, TX 77573 | April 29, 2009 | 485488
Utah:
Washington (FEMA Docket No: B-1059) | City of LaVerkin (09-08-0296P) | April 23, 2009; April 30, 2009; St. George Spectrum | The Honorable Karl Wilson, Mayor, City of LaVerkin, 435 North Main Street, LaVerkin, UT 84745 | August 28, 2009 | 490174
Washington (FEMA Docket No: B-1059) | City of Toquerville (09-08-0296P) | April 23, 2009; April 30, 2009; St. George Spectrum | The Honorable Kenneth Powell, Mayor, Town of Toquerville, P.O. Box 27, Toquerville, UT 84774 | August 28, 2009 | 490180
Wisconsin:
Rock (FEMA Docket No: B-1059) | Unincorporated areas of Rock County (08-05-4045P) | April 30, 2009; May 7, 2009; Beloit Daily News | The Honorable J. Russell Podzilni, Chairman, Rock County Board of Supervisors, 51 South Main Street, Janesville, WI 53545 | September 11, 2009 | 550363
Walworth (FEMA Docket No: B-1059) | Unincorporated areas of Walworth County (08-05-4045P) | May 7, 2009; May 14, 2009; Elkhorn Independent | The Honorable Nancy Russell, Chairperson, Walworth County Board of Supervisors, P.O. Box 1001, Elkhorn, WI 53121 | September 11, 2009 | 550462

(Catalog of Federal Domestic Assistance No. 97.022, “Flood Insurance.”)

Dated: March 22, 2010.
Sandra K. Knight,
Deputy Federal Insurance and Mitigation Administrator, Mitigation, Department of Homeland Security, Federal Emergency Management Agency.

[FR Doc. 2010-8049 Filed 4-8-10; 8:45 am]

BILLING CODE 9110-12-P